ENVIRONMENTAL PROTECTION AGENCY

[ORD-2004-0023; FRL-7941-6]

Agency Information Collection Activities; Submission to OMB for Review and Approval; Comment Request; Health Effects of Microbial Pathogens in Recreational Waters; National Epidemiological and Environmental Assessment of Recreational (NEEAR) Water Study (Renewal), EPA ICR Number 2081.02, OMB Control Number 2080-0068

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval. This is a request to renew an existing approved collection. This ICR is scheduled to expire on August 31, 2005. Under OMB regulations, the Agency may continue to conduct or sponsor the collection of information while this submission is pending at OMB. This ICR describes the nature of the information collection and its estimated burden and cost.

DATES: Additional comments may be submitted on or before August 22, 2005.

ADDRESSES: Submit your comments, referencing docket ID number ORD-2004-0023 to (1) EPA online using EDOCKET (our preferred method), by e-mail to ord.docket@epa.gov, or by mail to: EPA Docket Center, Environmental Protection Agency, Office of Research and Development Docket, Mail Code 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Elizabeth Sams, National Health and Environmental Effects Research Laboratory, Environmental Protection Agency, MD 58-C, Research Triangle Park, NC 27711; telephone number: (919) 843-3161; fax number: (919) 966-0655; e-mail address: sams.elizabeth@epa.gov.

SUPPLEMENTARY INFORMATION: EPA has submitted the following ICR to OMB for review and approval according to the procedures prescribed in 5 CFR 1320.12. On February 14, 2005 (70 FR 7496), EPA sought comments on this ICR pursuant to 5 CFR 1320.8(d). EPA received no comments.

EPA has established a public docket for this ICR under Docket ID No. ORD-2004-0023, which is available for public viewing at the Office of Research and Development Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Research and Development Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Health Effects of Microbial Pathogens in Recreational Waters; National Epidemiological and Environmental Assessment of Recreational (NEEAR) Water Study (Renewal).

Abstract: This study will be conducted, and the information collected, by the Epidemiology and Biomarkers Branch, Human Studies Division, National Health and Environmental Effects Research Laboratory, Office of Research and Development, U.S. Environmental Protection Agency (EPA). Participation of adults and children in this collection of information is strictly voluntary.

Households (families/individuals) at selected beaches will be interviewed on the beach about a variety of exposures including those to recreational water. Ten to twelve days later, families/individuals will be contacted by telephone and interviewed on the occurrence of selected symptomatolgy since swimming at the beach. In addition, selected groups of children (boy and girl scouts, church groups, camps) who are making day trips to selected beaches for recreation will be asked to participate in a special study to identify specific microbial pathogens.

This information is being collected as part of a research program consistent with the Section 3(a) (v) (1) of the Beaches Environmental Assessment and Coastal Health Act of 2000 and the strategic plan for EPA's Office of Research and Development (ORD) and the Office of Water entitled “Action Plan for Beaches and Recreational Water.” The Beaches Act and ORD's strategic plan have identified research on effects of microbial pathogens in recreational waters as a high-priority research area with particular emphasis on developing new water quality indicator guidelines for recreational waters. EPA has broad legislative authority to establish water quality criteria and to conduct research to support these criteria. This data collection is for a series of epidemiological studies to evaluate exposure to and effects of microbial pathogens in marine and fresh (Great Lakes) recreational waters as part of EPA's research program on exposure and health effects of microbial pathogens in recreational waters. The results of these health effects studies will be used to document human health effects associated with recreational water use and correlate these health effects with ongoing EPA studies to identify a new generation of indicators for detection of human pathogens in recreational water and appropriate, effective, and expeditious testing methods for these indicators (addressed separately under Section 3(a) (v) (2) and (3) of the Beaches Environmental Assessment and Coastal Health Act of 2000). The results will be used to develop mathematical relationships that will be used for the generation of new national water quality guidelines and appropriate monitoring guidelines.

An agency may not conduct or sponsor, and a person is not required to respond to, a collection of information unless it displays a currently valid OMB Control Number. The OMB Control Numbers for EPA's regulations in 40 CFR are listed in 40 CFR part 9 and are identified on the form and/or instrument, if applicable.

Burden Statement: The annual public reporting and recordkeeping burden for this collection of information is estimated to average 23 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are families frequenting fresh and marine water beaches in the continental United States.

Estimated Number of Respondents: 7,000.

Frequency of Response: 2 times.

Estimated Total Annual Hour Burden: 5,250 hours.

Estimated Total Annual Cost: $77,000, includes $0 annualized capital or O&M costs and $77,000 annual labor costs.

Changes in the Estimates: There is a increase of 2,500 respondents in the total estimated burden currently identified in the OMB Inventory of Approved ICR Burdens. Due to increased pressure to expeditiously complete the study, the study team may complete more than one beach per year, thus increasing the number of participants enrolled in the study annually. This renewal ICR 2081.02 reflects the estimated respondent and agency burden for two beaches per year, whereas the estimates in the previous ICR (EPA ICR Number 2081.01) account for only one beach annually. Although there is a significant increase in the number of respondents, there is only an increase of 250 burden hours in the total estimated burden currently identified in the OMB Inventory of Approved ICR Burdens. This is due to the fact that the original ICR (EPA ICR Number 2081.01) included a second telephone survey that has been eliminated in this renewal ICR and consequently has reduced the total hours for each respondent.

Dated: July 14, 2005.
Oscar Morales,
Director, Collection Strategies Division.

[FR Doc. 05-14400 Filed 7-20-05; 8:45 am]

BILLING CODE 6560-50-P